ENVIRONMENTAL PROTECTION AGENCY

40 CFR Parts 52 and 70

[EPA-R07-OAR-2014-0164; FRL 9910-68-Region 7]

Approval and Promulgation of Implementation Plans; State of Iowa; Ambient Air Quality Standards, and Controlling Pollution

AGENCY: Environmental Protection Agency (EPA).

ACTION: Proposed rule.

SUMMARY: The Environmental Protection Agency (EPA) is proposing to approve revisions to the State Implementation Plan (SIP) for the state of Iowa. These revisions will amend the SIP to include revisions to Iowa air quality rules necessary to allow for implementation of revised National Ambient Air Quality Standards (NAAQS) for fine particulate matter (PM2.5), lead, and sulfur dioxide (SO2) as they apply to construction permit exemptions. The spray booth “permit by rule” proposed revision will add content limits for lead-containing spray materials. The updated Federal references for the revised NAAQS are also included in this revision.

EPA is also proposing to approve revisions to the Iowa Title V Operating Permits Program to modify requirements for insignificant activities. The changes will correspond to the revisions to the construction permit exemptions amended with this SIP revision.

DATES: Comments on this proposed action must be received in writing by June 13, 2014.

ADDRESSES: Submit your comments, identified by Docket ID No. EPA-R07-OAR-2014-0164, by mail to Amy Algoe-Eakin, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Amy Algoe-Eakin, Environmental Protection Agency, Air Planning and Development Branch, 11201 Renner Boulevard, Lenexa, Kansas 66219 at 913-551-7942, or by email at algoe-eakin.amy@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: April 29, 2014.
Karl Brooks,
Regional Administrator, Region 7.

[FR Doc. 2014-10966 Filed 5-13-14; 8:45 am]

BILLING CODE 6560-50-P